DEPARTMENT OF COMMERCE

International Trade Administration

[A-351-806]

Notice of Final Results of Antidumping Duty Administrative Review: Silicon Metal from Brazil

AGENCY: Import Administration, International Trade Administration, Department of Commerce.

SUMMARY: On August 8, 2005, the Department of Commerce (“the Department”) published in the Federal Register the preliminary results of the administrative review of the order on silicon metal from Brazil. See Silicon Metal from Brazil: Preliminary Results of Antidumping Duty Administrative Review, 70 FR 45665 (August 8, 2005) (“Preliminary Results”). This review covers one manufacturer/exporter of the subject merchandise, Camargo Correa Metais (CCM). The merchandise covered by this order is silicon metal from Brazil as described in the “Scope of the Order” section of this notice. The period of review (“POR”) is July 1, 2003, through June 30, 2004. We gave interested parties an opportunity to comment on the preliminary results. Based upon our analysis of the comments received, we made changes to the margin calculation. Therefore, the final results have changed from the preliminary results of this review. The final weight-averaged dumping margin is listed below in the section titled “Final Results of Review.”

EFFECTIVE DATE: February 13, 2006.

FOR FURTHER INFORMATION CONTACT: Maisha Cryor, AD/CVD Operations, Office 4, Import Administration, International Trade Administration, U.S. Department of Commerce, 14th Street and Constitution Avenue, NW., Washington, DC 20230; telephone: (202) 482-5831.

SUPPLEMENTARY INFORMATION:

Background

The Department's preliminary results of review were published on August 8, 2005. See Preliminary Results. As provided in section 782(i) of the Tariff Act of 1930, as amended (“the Act”), we verified sales and cost information provided by CCM, from September 12, 2005, through September 23, 2005, using standard verification procedures such as the examination of relevant sales and financial records. Our verification results are outlined in the public and proprietary versions of our verification reports, which are on file in the Central Records Unit (“CRU”) in room B-099 of the main Commerce building. We invited parties to comment on the Preliminary Results and our verification findings. We received written comments on November 14, 2005, from Globe Metallurgical (the petitioner). On December 9, 2005, we received rebuttal comments from CCM, the respondent. On January 26, 2006, the Department held a public hearing concerning these final results. The Department is conducting this administrative review in accordance with section 751 of the Act.

Scope of the Order

The merchandise covered by this order is silicon metal from Brazil containing at least 96.00 percent but less than 99.99 percent silicon by weight. Also covered by this order is silicon metal from Brazil containing between 89.00 and 96.00 percent silicon by weight but which contains more aluminum than the silicon metal containing at least 96.00 percent but less than 99.99 percent silicon by weight. Silicon metal is currently provided for under subheadings 2804.69.10 and 2804.69.50 of the Harmonized Tariff Schedule of the United States (“HTSUS”) as a chemical product, but is commonly referred to as a metal. Semiconductor grade silicon (silicon metal containing by weight not less than 99.99 percent silicon and provided for in subheading 2804.61.00 of the HTSUS) is not subject to the order. Although the HTSUS item numbers are provided for convenience and for customs purposes, the written description remains dispositive.

Analysis of Comments Received

All issues raised in the case and rebuttal briefs, as well as the Department's findings, in this administrative review are addressed in the Issues and Decision Memorandum for the Administrative Review of Silicon Metal from Brazil (“Decision Memorandum”), dated February 6, 2006, which is hereby adopted by this notice. A list of the issues raised, all of which we have responded to in the Decision Memorandum, is appended to this notice. The Decision Memorandum is on file in the CRU in room B-099 of the main Commerce building, and can also be accessed directly on the Web at http://ia.ita.doc.gov/frn. The paper copy and electronic version of the Decision Memorandum are identical in content.

Changes Since the Preliminary Results

Based on our analysis of the comments received, we have made changes in the calculations for the final dumping margin. The changes are discussed in detail in the Decision Memorandum. Additional detail regarding these changes is provided in the Memorandum from Maisha Cryor, Senior International Trade Compliance Analyst, to Thomas F. Futtner, Acting Office Director, “Antidumping Duty Administrative Review of Silicon Metal from Brazil; Calculation Memorandum for the Final Results,” dated February 6, 2006, and the Memorandum from Michael P. Harrison, Senior Accountant, to Neal M. Halper, Director, Office of Accounting, “Cost of Production and Constructed Value Calculation Adjustments for the Final Results,” dated February 6, 2005.

Final Results of Review

As a result of our review, we determine that the following weighted-average margin exists for the period July 1, 2003, through June 30, 2004:

Manufacturer/Exporter | Weighted- Average Margin (Percentage)
Camargo Correa Metais | 0.00 percent

Assessment Rates

The Department will determine, and U.S. Customs and Border Protection (“CBP”) shall assess, antidumping duties on all appropriate entries, pursuant to section 751(a)(1)(B) of the Act and 19 CFR 351.212(b). The Department calculated importer-specific duty assessment rates on the basis of the ratio of the total amount of antidumping duties calculated for the examined sales for each importer to the total entered value of the examined sales for that importer. Where the importer-specific assessment rate is above de minimis, we will instruct CBP to assess antidumping duties on that importer's entries of subject merchandise produced by CCM. The Department will issue appropriate assessment instructions directly to CBP within 15 days of publication of these final results of review.

Cash Deposit Requirements

The following deposit requirements will be effective upon publication of this notice of final results of administrative review for all shipments of silicon metal from Brazil entered, or withdrawn from warehouse, for consumption on or after the publication date of these final results, as provided by section 751(a) of the Act: (1) for CCM we will instruct CBP not to collect cash deposits; (2) for merchandise exported by producers or exporters not covered in this review but covered in the investigation, the cash deposit rate will continue to be the company-specific rate from the most recently completed review; (3) if the exporter is not a firm covered in this review, a prior review, or the investigation, but the producer is, the cash deposit rate will be that established for the most recent period for the producer of the merchandise; and (4) the cash deposit rate for all other producers or exporters will be 91.06 percent, the “All Others” rate established in the less-than-fair-value investigation. These deposit requirements shall remain in effect until publication of the final results of the next administrative review.

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: February 3, 2006.
David M. Spooner,
Assistant Secretary for Import Administration.

APPENDIX - Issues in Decision Memorandum

I. Programa de Integracao Social and Contribuicao do Financiamento Social Taxes

II. Per-Unit Cost Calculation

III. General & Administrative Expense/Ratio

IV. Financial Expenses

V. Depreciation of Deferred Charges for Restarting Idled Furnaces

VI. Depreciation of Idled Assets

VII. Taxes Included in Constructed Value

[FR Doc. E6-1987 Filed 2-10-06; 8:45 am]

BILLING CODE 3510-DS-S